DEPARTMENT OF AGRICULTURE

Office of the Secretary

2 CFR Subtitle B, Ch. IV

5 CFR Ch. LXXIII

7 CFR Subtitle A; Subtitle B, Chs. I-XI, XIV-XVIII, XX, XXV-XXXVIII, XLII

9 CFR Chs. I-III

36 CFR Ch. II

48 CFR Ch. 4

Semiannual Regulatory Agenda, Fall 2017

AGENCY: Office of the Secretary, USDA.

ACTION: Semiannual regulatory agenda.

SUMMARY: This agenda provides summary descriptions of the significant and not significant regulatory and deregulatory actions being developed in agencies of the U.S. Department of Agriculture (USDA) in conformance with Executive Orders (E.O.) 12866 “Regulatory Planning and Review,” 13771 “Reducing Regulation and Controlling Regulatory Costs,” 13777 “Enforcing the Regulatory Reform Agenda,” and 13563 “Improving Regulation and Regulatory Review.” The agenda also describes regulations affecting small entities as required by section 602 of the Regulatory Flexibility Act, Public Law 96-354. This agenda also identifies regulatory actions that are being reviewed in compliance with section 610(c) of the Regulatory Flexibility Act. We invite public comment on those actions as well as any regulation consistent with E.O. 13563.

USDA has attempted to list all regulations and regulatory reviews pending at the time of publication except for minor and routine or repetitive actions, but some may have been inadvertently missed. There is no legal significance to the omission of an item from this listing. Also, the dates shown for the steps of each action are estimated and are not commitments to act on or by the date shown.

USDA's complete regulatory agenda is available online at www.reginfo.gov. Because publication in the Federal Register is mandated for the regulatory flexibility agendas required by the Regulatory Flexibility Act (5 U.S.C. 602), USDA's printed agenda entries include only:

(1) Rules that are likely to have a significant economic impact on a substantial number of small entities; and

(2) Rules identified for periodic review under section 610 of the Regulatory Flexibility Act.

For this edition of the USDA regulatory agenda, the most important regulatory and deregulatory actions are summarized in a Statement of Regulatory Priorities that is included in the Regulatory Plan, which appears in both the online regulatory agenda and in part II of the Federal Register that includes the abbreviated regulatory agenda.

FOR FURTHER INFORMATION CONTACT: For further information on any specific entry shown in this agenda, please contact the person listed for that action. For general comments or inquiries about the agenda, please contact Michael Poe, Office of Budget and Program Analysis, U.S. Department of Agriculture, Washington, DC 20250, (202) 720-3257.

Dated: November 28, 2017.
Michael Poe,
Legislative and Regulatory Staff.

Agricultural Marketing Service—Proposed Rule Stage
Sequence No. | Title | Regulation Identifier No.
139 | National Bioengineered Food Disclosure Standard (Reg Plan Seq No. 1) | 0581-AD54
140 | NOP: Organic Livestock and Poultry Practices (Reg Plan Seq No. 2) | 0581-AD75
References in boldface appear in The Regulatory Plan in part II of this issue of the Federal Register.

Agricultural Marketing Service—Final Rule Stage
Sequence No. | Title | Regulation Identifier No.
141 | NOP; Organic Livestock and Poultry Practices | 0581-AD44
142 | Growers' Trust Protection Eligibility and the Clarification of “Written Notifications” as Set Forth in Section 6(b) of the PACA | 0581-AD50
143 | Organic Research, Promotion, and Information Order/Referendum Procedures | 0581-AD55

Agricultural Marketing Service—Completed Actions
Sequence No. | Title | Regulation Identifier No.
144 | Sunset 2017 Amendments to the National List | 0581-AD52
145 | NOP; Organic Livestock and Poultry Practices | 0581-AD74

Animal and Plant Health Inspection Service—Final Rule Stage
Sequence No. | Title | Regulation Identifier No.
146 | Plant Pest Regulations; Update of General Provisions | 0579-AC98
147 | Bovine Spongiform Encephalopathy and Scrapie; Importation of Small Ruminants and Their Germplasm, Products, and Byproducts | 0579-AD10
148 | Establishing a Performance Standard for Authorizing the Importation and Interstate Movement of Fruits and Vegetables | 0579-AD71
149 | Importation of Fresh Citrus Fruit From the Republic of South Africa Into the Continental United States | 0579-AD95
150 | Animal Welfare; Establishing De Minimis Exemptions From Licensing (Reg Plan Seq No. 5) | 0579-AD99
151 | VSTA Records and Reports Specific to International Standards for Pharmacovigilance | 0579-AE11
References in boldface appear in The Regulatory Plan in part II of this issue of the Federal Register.

Animal and Plant Health Inspection Service—Completed Actions
Sequence No. | Title | Regulation Identifier No.
152 | Importation of Fresh Pitahaya Fruit From Ecuador Into the Continental United States | 0579-AE12
153 | Importation of Hass Avocados From Colombia | 0579-AE29

Grain Inspection, Packers and Stockyards Administration—Completed Actions
Sequence No. | Title | Regulation Identifier No.
154 | Clarification of Scope | 0580-AB25
155 | Unfair Practices and Unreasonable Preference | 0580-AB27
156 | Scope of Sections 202(a) and (b) of the Packers and Stockyards Act | 0580-AB28

Food Safety and Inspection Service—Final Rule Stage
Sequence No. | Title | Regulation Identifier No.
157 | Elimination of Trichina Control Regulations and Consolidation of Thermally Processed, Commercially Sterile Regulations | 0583-AD59

DEPARTMENT OF AGRICULTURE (USDA)

Agricultural Marketing Service (AMS)

Proposed Rule Stage

139. National Bioengineered Food Disclosure Standard

Regulatory Plan: This entry is Seq. No. 1 in part II of this issue of the Federal Register.

RIN: 0581-AD54

140. • NOP: Organic Livestock and Poultry Practices

Regulatory Plan: This entry is Seq. No. 2 in part II of this issue of the Federal Register.

RIN: 0581-AD75

DEPARTMENT OF AGRICULTURE (USDA)

Agricultural Marketing Service (AMS)

Final Rule Stage

141. NOP; Organic Livestock and Poultry Practices

E.O. 13771 Designation: Other.

Legal Authority: 7 U.S.C. 6501 to 6522

Abstract: This action would establish standards that support additional practice standards for organic livestock and poultry production. This action would add provisions to the USDA organic regulations to address and clarify livestock and poultry living conditions (for example, outdoor access, housing environment and stocking densities), health care practices (for example physical alterations, administering medical treatment, euthanasia), and animal handling and transport to and during slaughter.

Timetable:

Action | Date | FR Cite
NPRM | 04/13/16 | 81 FR 21955
Comment Period Extended | 06/08/16 | 81 FR 36810
NPRM Comment Period End | 07/13/16 |
Final Rule | 01/19/17 | 82 FR 7042
Final Rule Effective | 05/14/18 |

Regulatory Flexibility Analysis Required: Yes.

Agency Contact: Jennifer Tucker, Associate Deputy Administrator, USDA National Organic Program, Department of Agriculture, Agricultural Marketing Service, 1400 Independence Avenue SW, Washington, DC 20250, Phone: 202 720-3252.

RIN: 0581-AD44

142. Growers' Trust Protection Eligibility and the Clarification of “Written Notifications” as Set Forth in Section 6(B) of the PACA

E.O. 13771 Designation: Not subject to, not significant.

Legal Authority: 7 U.S.C. 499

Abstract: The proposed revisions to the regulations would provide greater direction to growers that employ growers' agents on how they may preserve their trust rights under the Perishable Agricultural Commodities Act (PACA). The proposed revisions would also clarify the definition of written notification and the jurisdiction of the USDA to investigate alleged violations under the PACA.

Timetable:

Action | Date | FR Cite
NPRM | 12/14/16 | 81 FR 90255
NPRM Comment Period End | 02/13/17 |
Comment Period Extended | 02/17/17 | 82 FR 10966
Comment Period End | 03/15/17 |
Final Action | 11/00/17 |

Regulatory Flexibility Analysis Required: Yes.

Agency Contact: Judith Wey Rudman, Director PACA Division, Department of Agriculture, Agricultural Marketing Service, 14th & Independence Avenue SW, Washington, DC 20250, Phone: 202 720-9404, Email: judithw.rudman@ams.usda.gov.

RIN: 0581-AD50

143. Organic Research, Promotion, and Information Order/Referendum Procedures

E.O. 13771 Designation: Not subject to, not significant.

Legal Authority: 7 U.S.C. 7411 to 7425; 7 U.S.C. 7401

Abstract: This rule invites comments on a proposed national research and promotion (R&P) program for certified organic products. The proposed program would cover the range of organic products that are certified and sold per the Organic Foods Production Act and its implementing regulations as well as organic products imported into the U.S. under an organic equivalency arrangement.

Timetable:

Action | Date | FR Cite
NPRM | 01/18/17 | 82 FR 5438
Comment Period End | 03/20/17 |
Final Rule | 12/00/17 |

Regulatory Flexibility Analysis Required: Yes.

Agency Contact: Heather Pichelman, Director, Promotion and Economics, Specialty Crops Program, Department of Agriculture, Agricultural Marketing Service, 1400 Independence Avenue, Washington, DC 20250, Phone: 202 720-9915.

RIN: 0581-AD55

DEPARTMENT OF AGRICULTURE (USDA)

Agricultural Marketing Service (AMS)

Completed Actions

144. Sunset 2017 Amendments to the National List

E.O. 13771 Designation: Fully or Partially Exempt.

Legal Authority: 7 U.S.C. 6501 to 6522

Abstract: This rule addresses eleven 2017 sunset review recommendations submitted to the Secretary by the National Organic Standards Board (NOSB) following their October 2015 meeting.

Completed:

Reason | Date | FR Cite
Final Rule | 07/06/17 | 82 FR 31241
Final Action Effective | 08/07/17 |

Regulatory Flexibility Analysis Required: Yes.

Agency Contact: Miles V. McEvoy, Phone: 202 720-3252.

RIN: 0581-AD52

145. NOP; Organic Livestock and Poultry Practices

E.O. 13771 Designation: Deregulatory.

Legal Authority: 7 U.S.C. 6501 to 6522

Abstract: Because of significant policy and legal issues within the final rule (0581-AD44), the public was asked to comment on which of the following four actions they believed would be best for USDA to take with regard to the disposition of the final rule (0581-AD44). The options were:

• Let the rule become effective on November 14, 2017;

• Suspend the rule indefinitely;

• Delay the effective date of the rule further, beyond the effective date of November 14, 2017; and

• Withdraw the rule so that USDA would not pursue implementation of the rule.

Comments were received on all four options. Based on the content of the comments received and the evaluation those comments generated, this action will determine the disposition of the Organic Livestock and Poultry Practices rule published on January 19, 2017. The option chosen was to Delay the effective date of the rule further, beyond the effective date of November 14, 2017.

Completed:

Reason | Date | FR Cite
NPRM | 05/10/17 | 82 FR 21742
Final Rule; Delay of Effective Date | 11/14/17 | 82 FR 52643

Regulatory Flexibility Analysis Required: Yes.

Agency Contact: Jennifer Tucker, Phone: 202 720-3252.

RIN: 0581-AD74

BILLING CODE 3410-02-P

DEPARTMENT OF AGRICULTURE (USDA)

Animal and Plant Health Inspection Service (APHIS)

Final Rule Stage

146. Plant Pest Regulations; Update of General Provisions

E.O. 13771 Designation: Deregulatory.

Legal Authority: 7 U.S.C. 450; 7 U.S.C. 2260; 7 U.S.C. 7701 to 7772; 7 U.S.C. 7781 to 7786; 7 U.S.C. 8301 to 8817; 19 U.S.C. 136; 21 U.S.C. 111; 21 U.S.C. 114a; 21 U.S.C. 136 and 136a; 31 U.S.C. 9701; 42 U.S.C. 4331 and 4332

Abstract: We are revising our regulations regarding the movement of plant pests. We are establishing criteria regarding the movement and environmental release of biological control organisms, and establishing regulations to allow the importation and movement in interstate commerce of certain types of plant pests without restriction by granting exceptions from permitting requirements for those pests. We are also revising our regulations regarding the movement of soil. This action clarifies the factors that would be considered when assessing the risks associated with the movement of certain organisms and facilitates the movement of regulated organisms and articles in a manner that also protects U.S. agriculture.

Timetable:

Action | Date | FR Cite
Notice of Intent To Prepare an Environmental Impact Statement | 10/20/09 | 74 FR 53673
Notice Comment Period End | 11/19/09 |
NPRM | 01/19/17 | 82 FR 6980
NPRM Comment Period Extended | 02/13/17 | 82 FR 10444
NPRM Comment Period End | 04/19/17 |
Final Rule | 02/00/18 |

Regulatory Flexibility Analysis Required: Yes.

Agency Contact: Colin Stewart, Assistant Director, Pests, Pathogens, and Biocontrol Permits, PPQ, Department of Agriculture, Animal and Plant Health Inspection Service, 4700 River Road, Unit 133, Riverdale, MD 20737-1236, Phone: 301 851-2237.

RIN: 0579-AC98

147. Bovine Spongiform Encephalopathy and Scrapie; Importation of Small Ruminants and Their Germplasm, Products, and Byproducts

E.O. 13771 Designation: Deregulatory.

Legal Authority: 7 U.S.C. 450; 7 U.S.C. 1622; 7 U.S.C. 7701 to 7772; 7 U.S.C. 7781 to 7786; 7 U.S.C. 8301 to 8317; 21 U.S.C. 136 and 136a; 31 U.S.C. 9701

Abstract: This rulemaking amends the bovine spongiform encephalopathy (BSE) and scrapie regulations regarding the importation of live sheep, goats, and wild ruminants and their embryos, semen, products, and byproducts. The scrapie revisions regarding the importation of sheep, goats, and susceptible wild ruminants for other than immediate slaughter are similar to those recommended by the World Organization for Animal Health in restricting the importation of such animals to those from scrapie-free regions or certified scrapie-free flocks.

Timetable:

Action | Date | FR Cite
NPRM | 07/18/16 | 81 FR 46619
NPRM Comment Period End | 09/16/16 |
Final Rule | 02/00/18 |

Regulatory Flexibility Analysis Required: Yes.

Agency Contact: Langston Hull, Senior Staff Veterinary Medical Officer, Animal Permitting and Negotiating Services, VS, Department of Agriculture, Animal and Plant Health Inspection Service, 4700 River Road, Unit 39, Riverdale, MD 20737-1231, Phone: 301 851-3300.

RIN: 0579-AD10

148. Establishing a Performance Standard for Authorizing the Importation and Interstate Movement of Fruits and Vegetables

E.O. 13771 Designation: Deregulatory.

Legal Authority: 7 U.S.C. 450; 7 U.S.C. 7701 to 7772; 7 U.S.C. 7781 to 7786; 21 U.S.C. 136 and 136(a)

Abstract: This rulemaking will amend our regulations governing the importations of fruits and vegetables by broadening our existing performance standard to provide for consideration of all new fruits and vegetables for importation into the United States using a notice-based process. Rather than authorizing new imports through proposed and final rules and specifying import conditions in the regulations, the notice-based process uses Federal Register notices to make risk analyses available to the public for review and comment, with authorized commodities and their conditions of entry subsequently being listed on the internet. It also will remove the region- or commodity-specific phytosanitary requirements currently found in these regulations. Likewise, we are proposing an equivalent revision of the performance standard in our regulations governing the interstate movements of fruits and vegetables from Hawaii and the U.S. territories (Guam, Northern Mariana Islands, Puerto Rico, and the U.S. Virgin Islands) and the removal of commodity-specific phytosanitary requirements from those regulations. This action will allow for the consideration of requests to authorize the importation or interstate movement of new fruits and vegetables in a manner that enables a more flexible and responsive regulatory approach to evolving pest situations in both the United States and exporting countries. It will not, however, alter the science-based process in which the risk associated with importation or interstate movement of a given fruit or vegetable is evaluated or the manner in which risks associated with the importation or interstate movement of a fruit or vegetable are mitigated.

Timetable:

Action | Date | FR Cite
NPRM | 09/09/14 | 79 FR 53346
NPRM Comment Period End | 11/10/14 |
NPRM Comment Period Reopened | 12/04/14 | 79 FR 71973
NPRM Comment Period End | 01/09/15 |
NPRM Comment Period Reopened | 02/06/15 | 80 FR 6665
NPRM Comment Period End | 03/10/15 |
Final Rule | 12/00/17 |

Regulatory Flexibility Analysis Required: Yes.

Agency Contact: Nicole Russo, Assistant Director, Regulatory Coordination and Compliance, PPQ, Department of Agriculture, Animal and Plant Health Inspection Service, 4700 River Road, Unit 133, Riverdale, MD 20737-1236, Phone: 301 851-2159.

RIN: 0579-AD71

149. • Importation of Fresh Citrus Fruit From the Republic of South Africa Into the Continental United States

E.O. 13771 Designation: Deregulatory.

Legal Authority: 7 U.S.C. 450; 7 U.S.C. 7701 to 7772; 7 U.S.C. 7781 to 7786; 21 U.S.C. 136 and 136a

Abstract: This rulemaking will amend the fruits and vegetables regulations to allow the importation of several varieties of fresh citrus fruit, as well as citrus hybrids, into the continental United States from areas in the Republic of South Africa where citrus black spot has been known to occur. As a condition of entry, the fruit will have to be produced in accordance with a systems approach that includes shipment traceability, packinghouse registration and procedures, and phytosanitary treatment. The fruit will also be required to be imported in commercial consignments and accompanied by a phytosanitary certificate issued by the national plant protection organization of the Republic of South Africa with an additional declaration confirming that the fruit has been produced in accordance with the systems approach. This action will allow for the importation of fresh citrus fruit, including citrus hybrids, from the Republic of South Africa while continuing to provide protection against the introduction of plant pests into the United States.

Timetable:

Action | Date | FR Cite
NPRM | 08/28/14 | 79 FR 51273
NPRM Comment Period End | 10/27/14 |
Final Action | 06/00/18 |

Regulatory Flexibility Analysis Required: Yes.

Agency Contact: Marc Phillips, Senior Regulatory Policy Specialist, Regulatory Coordination and Compliance, PPQ, Department of Agriculture, Animal and Plant Health Inspection Service, 4700 River Road, Unit 133, Riverdale, MD 20737-1231, Phone: 301 851-2114.

RIN: 0579-AD95

150. Animal Welfare; Establishing De Minimis Exemptions From Licensing

Regulatory Plan: This entry is Seq. No. 5 in part II of this issue of the Federal Register.

RIN: 0579-AD99

151. • VSTA Records and Reports Specific to International Standards for Pharmacovigilance

E.O. 13771 Designation: Not subject to, not significant.

Legal Authority: 21 U.S.C. 151 to 159

Abstract: This rulemaking will amend the Virus-Serum-Toxin Act regulations concerning records and reports. This change requires veterinary biologics licensees and permittees to record and submit reports concerning adverse events associated with the use of biological products they produce or distribute. The information that must be included in the adverse event reports submitted to the Animal and Plant Health Inspection Service will be provided in separate guidance documents. These records and reports will help ensure that APHIS can provide complete and accurate information to consumers regarding adverse reactions or other problems associated with the use of licensed biological products.

Timetable:

Action | Date | FR Cite
NPRM | 09/04/15 | 80 FR 53475
NPRM Comment Period End | 11/03/15 |
Final Rule | 12/00/17 |

Regulatory Flexibility Analysis Required: Yes.

Agency Contact: Donna L. Malloy, Operational Support Section, Center for Veterinary Biologics, Policy, Evaluation, and Licensing, VS, Department of Agriculture, Animal and Plant Health Inspection Service, 4700 River Road, Unit 148, Riverdale, MD 20737-1231, Phone: 301 851-3426.

RIN: 0579-AE11

DEPARTMENT OF AGRICULTURE (USDA)

Animal and Plant Health Inspection Service (APHIS)

Completed Actions

152. Importation of Fresh Pitahaya Fruit From Ecuador Into the Continental United States

E.O. 13771 Designation: Deregulatory.

Legal Authority: 7 U.S.C. 450; 7 U.S.C. 7701 to 7772; 7 U.S.C. 7781 to 7786; 21 U.S.C. 136 and 136a

Abstract: This rulemaking amends the fruits and vegetables regulations to allow the importation of fresh pitahaya fruit into the continental United States from Ecuador. As a condition of entry, the fruit will have to be produced in accordance with a systems approach that includes requirements for fruit fly trapping, pre-harvest inspections, approved production sites, and packinghouse procedures designed to exclude quarantine pests. The fruit will also be required to be imported in commercial consignments and accompanied by a phytosanitary certificate issued by the national plant protection organization of Ecuador stating that the consignment was produced and prepared for export in accordance with the requirements of the systems approach. This action allows for the importation of fresh pitahaya fruit from Ecuador while continuing to provide protection against the introduction of plant pests into the United States.

Completed:

Reason | Date | FR Cite
Final Rule | 06/20/17 | 82 FR 27967
Final Rule Effective | 07/20/17 |

Regulatory Flexibility Analysis Required: Yes.

Agency Contact: Claudia Ferguson, Phone: 301 851-2352.

RIN: 0579-AE12.

153. • Importation of Hass Avocados From Colombia

E.O. 13771 Designation: Deregulatory.

Legal Authority: 7 U.S.C. 450; 7 U.S.C. 7701 to 7772; 7 U.S.C. 7781 to 7786; 21 U.S.C. 136 and 136a

Abstract: This rulemaking amends the regulations to allow the importation of fresh Hass avocado fruit from Colombia into the continental United States. As a condition of entry, fresh Hass avocado fruit from Colombia will have to be produced in accordance with a systems approach that includes orchard and packinghouse requirements and port of entry inspection. The fruit will also be required to be imported in commercial consignments and accompanied by a phytosanitary certificate issued by the national plant protection organization of Colombia with an additional declaration stating that the fruit has been produced in accordance with the requirements. This action allows for the importation of fresh Hass avocado fruit from Colombia while continuing to provide protection against the introduction of plant pests into the continental United States.

Timetable:

Action | Date | FR Cite
NPRM | 10/27/16 | 81 FR 74722
NPRM Comment Period End | 03/20/17 |
NPRM Comment Period Reopened | 01/17/17 | 82 FR 4798
NPRM Comment Period Extended | 02/10/17 | 82 FR 10312
Final Rule | 08/15/17 | 82 FR 38591
Final Rule Effective | 09/14/17 |

Regulatory Flexibility Analysis Required: Yes.

Agency Contact: David B. Lamb, Senior Regulatory Policy Specialist, IRM, PPQ, Department of Agriculture, Animal and Plant Health Inspection Service, 4700 River Road, Unit 133, Riverdale, MD 20737-1231, Phone: 301 851-2103.

RIN: 0579-AE29

BILLING CODE 3410-34-P

DEPARTMENT OF AGRICULTURE (USDA)

Grain Inspection, Packers and Stockyards Administration (GIPSA)

Completed Actions

154. Clarification of Scope

E.O. 13771 Designation: Regulatory.

Legal Authority: Pub. L. 110-246; 7 U.S.C. 181 to 229c

Abstract: On December 20, 2016, the Grain Inspection, Packers and Stockyards Administration (GIPSA) published an interim final rule on the subject matter that was set to become effective on February 21, 2017. GIPSA published a notice in the Federal Register that extended the comment period of the interim final rule until March 24, 2017, and delayed its effective date until April 22, 2017. GIPSA sought additional comments through a new proposed rule on possible actions the Department may take that will result in delayed full implementation of the rule. GIPSA published a notice delaying the effective date of the interim final rule for an additional 180 days, until October 19, 2017.

Completed:

Reason | Date | FR Cite
Notice | 04/12/17 | 82 FR 17531
Interim Final Rule Effective | 10/19/17 |
Withdrawn | 10/18/17 |

Regulatory Flexibility Analysis Required: Yes.

Agency Contact: Raymond Dexter Thomas, Phone: 202 720-6529, Fax: 202 690-2173, Email: r.dexter.thomas@usda.gov.

RIN: 0580-AB25

155. Unfair Practices and Unreasonable Preference

E.O. 13771 Designation: Regulatory.

Legal Authority: Pub. L. 110-246; 7 U.S.C. 181-229c

Abstract: Title XI of the 2008 Farm Bill required the Secretary of Agriculture to issue a number of regulations under the P&S Act. Among these instructions, the 2008 Farm Bill directed the Secretary to identify criteria to be considered in determining whether an undue or unreasonable preference or advantage has occurred in violation of the P&S Act. In June of 2010, the Grain Inspection, Packers and Stockyards Administration (GIPSA) published a proposed rule addressing this statutory requirement along with several other rules required by the 2008 Farm Bill. Proposed 201.211 to the regulations under the P&S Act would have established criteria that the Secretary may consider in determining if conduct would violate section 202(b) of the P&S Act (undue or unreasonable preference or advantage). While many commenters provided examples of similarly situated poultry growers and livestock producers receiving different treatment, other commenters were concerned about the impacts of the provision on marketing arrangements and other beneficial contractual agreements. Beginning with the FY 2012 appropriations act, USDA was precluded from working on certain proposed regulatory provisions related to the P&S Act, including criteria in this proposal regarding undue or unreasonable preferences or advantages. Consequently, GIPSA did not finalize this rule in 2011. The prohibitions are not included in the Consolidated Appropriations Act, 2016. This rulemaking is necessary to fulfill statutory requirements. Section 201.210 will illustrate by way of examples types of conduct GIPSA would consider unfair, unjustly discriminatory, or deceptive.

Regulatory Flexibility Analysis Required: Yes.

Agency Contact: Raymond Dexter Thomas, Phone: 202 720-6529, Fax: 202 690-2173, Email: r.dexter.thomas@usda.gov.

RIN: 0580-AB27

156. Scope of Sections 202(A) and (B) of the Packers and Stockyards Act

E.O. 13771 Designation: Deregulatory.

Legal Authority: Pub. L. 110-246; 7 U.S.C. 181 to 229c

Abstract: Through this action, GIPSA sought additional comments on possible actions the Department may take on 0580-AB25.

Completed:

Reason | Date | FR Cite
NPRM | 04/12/17 | 82 FR 17594
Final Action; Withdrawal | 10/18/17 | 82 FR 48594

Regulatory Flexibility Analysis Required: Yes.

Agency Contact: Raymond Dexter Thomas, Phone: 202 720-6529, Fax: 202 690-2173, Email: r.dexter.thomas@usda.gov.

RIN: 0580-AB28

BILLING CODE 3410-EN-P

DEPARTMENT OF AGRICULTURE (USDA)

Food Safety and Inspection Service (FSIS)

Final Rule Stage

157. Elimination of Trichina Control Regulations and Consolidation of Thermally Processed, Commercially Sterile Regulations

E.O. 13771 Designation: Deregulatory.

Legal Authority: 21 U.S.C. 601 et seq.; 21 U.S.C. 451 et seq.

Abstract: The Food Safety and Inspection Service (FSIS) proposed to amend the Federal meat inspection regulations to eliminate the requirements for both ready-to-eat (RTE) and not-ready-to-eat (NRTE) pork and pork products to be treated to destroy trichina (Trichinella spiralis) because the regulations are inconsistent with the Hazard Analysis and Critical Control Point (HACCP) regulations, and these prescriptive regulations are no longer necessary. If this supplemental proposed rule is finalized, FSIS will end its Trichinella Approved Laboratory Program (TALP program) for the evaluation and approval of non-Federal laboratories that use the pooled sample digestion technique to analyze samples for the presence of trichina. FSIS also proposed to consolidate the regulations on thermally processed, commercially sterile meat and poultry products (i.e., canned food products containing meat or poultry).

Timetable:

Action | Date | FR Cite
NPRM | 03/28/16 | 81 FR 17337
NPRM Comment Period End | 06/27/16 |
Final Rule | 12/00/17 |

Regulatory Flexibility Analysis Required: Yes.

Agency Contact: Matthew Michael, Director, Issuances Staff, Department of Agriculture, Food Safety and Inspection Service, Office of Policy and Program Development, 1400 Independence Avenue SW, Washington, DC 20250-3700, Phone: 202 720-0345, Fax: 202 690-0486, Email: matthew.michael@fsis.usda.gov.

RIN: 0583-AD59

[FR Doc. 2017-28205 Filed 1-11-18; 8:45 am]

BILLING CODE 3410-DM-P